DEPARTMENT OF HEALTH AND HUMAN SERVICES

National Institutes of Health

Center for Scientific Review; Amended Notice of Meeting

Notice is hereby given of a change in the meeting of the Center for Scientific Review Special Emphasis Panel, March 23, 2000, 2:00 PM to March 23, 2000, 3:00 PM, NIH, Rockledge 2, Bethesda, MD, 20892 which was published in the Federal Register on March 9, 2000, 65 FR 12565.

The meeting will be held on April 5, 2000 from 3:00 PM to 4:00 PM. The location remains the same. The meeting is closed to the public.

Dated: March 16, 2000.
LaVerne Stringfield,
Director, Office of Federal Advisory Committee Policy.

[FR Doc. 00-7378 Filed 3-24-00; 8:45 am]

BILLING CODE 4140-01-M